DEPARTMENT OF THE INTERIOR

National Park Service

Notice of Inventory Completion for Native American Human Remains and Associated Funerary Objects in the Possession of the Peabody Museum of Archaeology and Ethnology, Harvard University, Cambridge, MA

AGENCY: National Park Service, Interior.

ACTION: Notice.

Notice is hereby given in accordance with the provisions of the Native American Graves Protection and Repatriation Act (NAGPRA), 42 CFR 10.9, of the completion of an inventory of human remains and associated funerary objects in the possession of the Peabody Museum of Archaeology and Ethnology, Harvard University, Cambridge, MA.

This notice is published as part of the National Park Service's administrative responsibilities under NAGPRA, 43 CFR 10.2 (c). The determinations within this notice are the sole responsibility of the museum, institution, or Federal agency that has control of these Native American human remains and associated funerary objects. The National Park Service is not responsible for the determinations within this notice.

A detailed assessment of the human remains and associated funerary objects was made by the Peabody Museum of Archaeology and Ethnology professional staff in consultation with representatives of the Cayuga Nation of New York; Delaware Nation, Oklahoma; Delaware Tribe of Indians, Oklahoma; Oneida Nation of New York; Oneida Tribe of Wisconsin; Onondaga Nation of New York; St. Regis Band of Mohawk Indians of New York; Seneca Nation of New York; Seneca-Cayuga Tribe of Oklahoma; Stockbridge-Munsee Community of Mohican Indians of Wisconsin; Tonawanda Band of Seneca Indians of New York; Tuscarora Nation of New York; and the nonfederally recognized Mohawk Nation Council of Chiefs.

In 1906, human remains representing 41 individuals were recovered from Heath Farm, in Rodman, NY, during a Peabody Museum expedition led by M.R. Harrington and I. Hayden. No known individuals were identified. The six associated funerary objects are unfinished celts, bone awls, yellow ochre, and animal bones.

Museum documentation indicates that the Heath Farm site is on the western border of the township of Rodman, approximately 1.5 miles west of the village of Rodman, along the northern bank of the North Sandy Creek. Interments from this site most likely date to the Late Woodland period (A.D. 1000-1600). Artifacts recovered from the site, but not associated with the burials, support this date. These objects include Levanna- and Madison-style projectile points, ceramic vessels with globular bodies, constricted, zoned incised necks, and castellated rims, and a variety of terra cotta pipes, including pipes with trumpet-shaped bowls and bowls with representations of human faces and animals.

In 1906, human remains representing 14 individuals were recovered from Durfee Farm, in Ellisburg, NY, during a Peabody Museum expedition led by M.R. Harrington and I. Hayden. No known individuals were identified. No associated funerary objects are present.

Museum documentation indicates that the Durfee Farm site is in the township of Ellisburg, 3 miles north-northwest of the village of Pierrepont Manor, between Taylor Brook and Spring Brook, in the vicinity of a scattered group of farmhouses that were known locally as the “Taylor settlement.” The site lies on a low, flat-topped hill historically known as the “Old Fort lot,” once belonging to the old Durfee farm. Interments from this site most likely date to the Late Woodland period (A.D. 1000-1600). Artifacts recovered from the site, but not associated with the burials, support this date. These objects include Levanna- and Madison-style projectile points, ceramic vessels with globular bodies, constricted, zoned incised necks, and castellated rims, and a variety of terra cotta pipes, including pipes with trumpet-shaped bowls and bowls with representations of human faces and animals.

In 1906, human remains representing three individuals were recovered from the Perch River Bay site, in Brownville, NY, during a Peabody Museum expedition led by M.R. Harrington and I. Hayden. No known individuals were identified. No associated funerary objects are present.

Museum documentation indicates that the Perch River Bay site is located along the shore of Lake Ontario, at the head of Perch River Bay (now known as Black River Bay), in the township of Brownville, southwest of the village of Limerick, on what was then the farm of Julius Maynard. Interments from this site most likely date to the Late Woodland period (A.D. 1000-1600). Artifacts recovered from the site, but not associated with the burials, support this date. These objects include Levanna- and Madison-style projectile points, ceramic vessels with globular bodies, constricted, zoned incised necks, and castellated rims, and a variety of terra cotta pipes, including pipes with trumpet-shaped bowls and bowls with representations of human faces and animals.

Excavation and museum records clearly indicate that these human remains and associated funerary objects were removed from specific burials of Native American individuals. Based on the archeological materials from the sites, museum documentation, and oral histories presented by the Oneida Nation of New York and Oneida Tribe of Wisconsin, and the provenience of human remains and associated funerary objects from areas considered to be aboriginal homelands and traditional burial areas of the Oneida Nation of New York and Oneida Tribe of Wisconsin, a reasonable link of shared group identity may be made to the Oneida Nation of New York and Oneida Tribe of Wisconsin.

Based on the above-mentioned information, officials of the Peabody Museum of Archaeology and Ethnology have determined that, pursuant to 43 CFR 10.2 (d)(1), the human remains listed above represent the physical remains of 58 individuals of Native American ancestry. Officials of the Peabody Museum of Archaeology and Ethnology also have determined that, pursuant to 43 CFR 10.2 (d)(2), the six associated funerary objects described above are reasonably believed to have been placed with or near individual human remains at the times of death or later as part of the death rite or ceremony. Lastly, officials at the Peabody Museum of Archaeology and Ethnology have determined that, pursuant to 43 CFR 10.2 (e), there is a relationship of shared group identity that can be reasonably traced between these Native American human remains and associated funerary objects and the Oneida Nation of New York and the Oneida Tribe of Wisconsin.

This notice has been sent to officials of the Cayuga Nation of New York; Delaware Nation, Oklahoma; Delaware Tribe of Indians, Oklahoma; Oneida Nation of New York; Oneida Tribe of Wisconsin; Onondaga Nation of New York; St. Regis Band of Mohawk Indians of New York; Seneca Nation of New York; Seneca-Cayuga Tribe of Oklahoma; Stockbridge-Munsee Community of Mohican Indians of Wisconsin; Tonawanda Band of Seneca Indians of New York; Tuscarora Nation of New York; and the nonfederally recognized Mohawk Nation Council of Chiefs. Representatives of any other Indian tribe that believes itself to be culturally affiliated with these objects should contact Patricia Capone, Repatriation Coordinator, Peabody Museum of Archaeology and Ethnology, Harvard University, 11 Divinity Avenue, Cambridge, MA 02138, telephone (617) 496-3702, before November 5, 2001. Repatriation of these human remains and associated funerary objects to the Oneida Nation of New York and the Oneida Tribe of Wisconsin may begin after that date if no additional claimants come forward.

Dated: July 3, 2001.
John Robbins,
Assistant Director, Cultural Resources Stewardship and Partnerships.

[FR Doc. 01-24964 Filed 10-4-01; 8:45 am]

BILLING CODE 4310-70-F